DEPARTMENT OF DEFENSE

Department of the Army

[Docket ID: USA-2008-0013]

Privacy Act of 1974; System of Records

AGENCY: Department of the Army, DoD.

ACTION: Notice to Add a System of Records.

SUMMARY: The Department of the Army is proposing to add a system of records to its existing inventory of records systems subject to the Privacy Act of 1974, (5 U.S.C. 552a), as amended.

DATES: The proposed action will be effective on July 7, 2008 unless comments are received that would result in a contrary determination.

ADDRESSES: Department of the Army, Freedom of Information/ Privacy Division, U.S. Army Records Management and Declassification Agency, 7701 Telegraph Road, Casey Building, Suite 144, Alexandria, VA 22325-3905.

FOR FURTHER INFORMATION CONTACT: Mr. Robert Dickerson at (703) 428-6513.

SUPPLEMENTARY INFORMATION: The Department of the Army systems of records notices subject to the Privacy Act of 1974, (5 U.S.C. 552a), as amended, have been published in the Federal Register and are available from the address above.

The proposed system report, as required by 5 U.S.C. 552a(r) of the Privacy Act of 1974, as amended, was submitted on May 27, 2008, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: May 28, 2008.
Patricia L. Toppings,
OSD Federal Register Liaison Officer, Department of Defense.

A0635a AHRC

System name:

Combat-Related Special Compensation Files.

System location:

Combat-Related Special Compensation Branch, U.S. Army Human Resources Command, 200 Stovall Street, Alexandria, VA 22315.

Categories of individuals covered by the system:

Army Retirees who have applied for Combat-Related Special Compensation Program.

Categories of records in the system:

Full name, Social Security Number (SSN), military grade or rate, and claim number; DD Form 2860, Claim for Combat-Related Special Compensation (CRSC), may also contain: Medical reports and disability compensation information from the Department of Veterans Affairs; medical reports from civilian medical facilities; medical board reports; statements of findings of physical evaluation boards; military health records; military personnel records; records and reports from the Defense Finance and Accounting Service; retirement records; pay information; correspondences between applicants and agency; intra-agency and interagency correspondence concerning the case; members of Congress, attorneys, representatives, and other cognizant persons or parties; decisional documents; any additional supporting documentation; and/or copies of any of the foregoing documents.

Authority for maintenance of the system:

National Defense Authorization Act Section 636; Public Law 107-314, Bob Stump National Defense Authorization Act for Fiscal Year 2003; 10 U.S.C. 1413a, as amended, Combat Related Special Compensation; 10 U.S.C. Chapter 61, Retirement or Separation for Physical Disability; AR 635-40, Physical Evaluation for Retention, Retirement, or Separation and E.O. 9397 (SSN).

Purpose(s):

To determine whether Army Retirees are entitled to combat-related special compensation; as a management tool to effectuate payment of combat-related special compensation; and to respond to official inquiries concerning the applications of particular applicants. The file may also be referred to by the Board for Correction of Army Records in conjunction with their subsequent review of applications from applicants.

Routine uses of records maintained in the system, including categories of users and the purposes of such uses:

In addition to those disclosures generally permitted under 5 U.S.C. 552a(b) of the Privacy Act, these records or information contained therein may specifically be disclosed outside the DoD as a routine use pursuant to 5 U.S.C. 552(b)(3) as follows:

To officials and employees of the Department of Veterans Affairs to request and verify information of service-connected disabilities in order to evaluate applications for combat-related special compensation and effectuate pay.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policies and practices for storing, retrieving, accessing, retaining, and disposing of records in the system:

Storage:

Paper records in file folders and electronic storage media.

Retrievability:

Individual's name, Social Security Number (SSN) and/or claim number.

Safeguards:

Paper files are maintained in a secure room and are signed out as needed to appropriate representatives and are under the control of authorized personnel during working hours. Individual computerized system is password protected and access to the data base requires being afforded rights and being able to access AKO and authenticate using either a common access card (CAC) or AKO user name and password. System Administrators assign local access to database. The office is located in a secured building leased by the Army that has a 24-hour security force. All personnel are required to wear a badge to gain entrance. All staff are required to have annual HIPAA certification.

Retention and disposal:

Paper copies are kept secured until digitization occurs. Once digitized and transferred to the Interactive Personnel Electronic Record Management System (iPERMS) the paper copy records are placed in burn bags and destroyed. iPERMS will destroy the electronic record 10 years after transfer.

System manager(s) and address:

Commander, Army Human Resources Command (AHRC), 200 Stovall Street, Alexandria, VA 22332.

Notification procedure:

Individuals seeking to determine whether information about themselves is contained in this system should address written inquiries to Army Human Resources Command (AHRC), Combat-Related Special Compensation (CRSC) Branch, 200 Stovall Street, Alexandria, VA 22332.

The request should contain the full name of the individual, military grade or rate, claim number, Social Security Number (SSN) and signed.

Record access procedures:

Individuals seeking access to information about themselves contained in the system should address written inquiries to the Army Human Resources Command (AHRC), Combat-Related Special Compensation (CRSC) Branch, 200 Stovall Street, Alexandria, VA 22332.

The request should contain the full name of the individual, military grade or rate, claim number, Social Security Number (SSN) and signed.

Contesting record procedures:

The Army's rules for accessing records, and for contesting contents and appealing initial agency determinations are contained in AR 340-21; 32 CFR part 505; or may be obtained from the system manager.

Record source categories:

Army retirees who apply for combat-related special compensation; military medical boards and medical facilities; Department of Veterans Affairs and civilian medical providers and facilities; physical evaluation boards and other activities of the disability evaluation system; the Judge Advocate General; Army local command activities; the Defense Finance and Accounting Service; of the Department of Defense activities; and correspondence from members of Congress, attorneys, representatives, and other cognizant persons or parties.

Exemptions claimed for the system:

None.

[FR Doc. E8-12580 Filed 6-4-08; 8:45 am]

BILLING CODE 5001-06-P